DEPARTMENT OF TRANSPORTATION

Federal Aviation Administration

14 CFR Part 39

[Docket No. 99-CE-28-AD; Amendment 39-12504; AD 2001-23-07]

RIN 2120-AA64

Airworthiness Directives; Reims Aviation S.A. Model F406 Airplanes; Correction

AGENCY: Federal Aviation Administration, DOT.

ACTION: Final rule; correction.

SUMMARY: This document makes a correction to Airworthiness Directive (AD) 2001-23-07, which was published in the Federal Register on November 15, 2001 (66 FR 57364), and concerns certain Reims Model F406 airplanes. The FAA incorrectly referenced the AD number as “AD 2001-01-07” instead of

“AD 2001-23-07.” This AD requires repetitive inspections of the canted rib upper cap in the center wing carry-through area for cracks, and, if cracks are found, immediate repair of the cracks or modification of this area depending on the extent of any cracks found. This AD also requires modifying the canted rib upper cap at a certain time period as terminating action for the repetitive inspections. This action corrects the AD to reflect the correct AD number.

EFFECTIVE DATE: The effective date of this AD remains January 7, 2002.

FOR FURTHER INFORMATION CONTACT: Brian A. Hancock, Aerospace Engineer, FAA, Small Airplane Directorate, 901 Locust, Room 301, Kansas City, Missouri 64106; telephone: (816) 329-4143, facsimile: (816) 329-4090.

SUPPLEMENTARY INFORMATION:

Discussion

On November 6, 2001, FAA issued AD 2001-01-07, Amendment 39-12504 (66 FR 57364, November 15, 2001), which applies to certain Reims Model F406 airplanes. This AD currently requires repetitive inspections of the canted rib upper cap in the center wing carry-through area for cracks, and, if cracks are found, immediate repair of the cracks or modification of this area depending on the extent of any cracks found. This AD also requires modifying the canted rib upper cap at a certain time period as terminating action for the repetitive inspections.

Need for the Correction

We incorrectly referenced the AD number as “AD 2001-01-07” instead of “AD 2001-23-07.” If we did not correct the AD number, then the logbooks of the affected airplane would reference compliance with the wrong AD.

Correction of Publication

Accordingly, the publication of November 15, 2001 (66 FR 57364), of Amendment 39-12504; AD 2001-01-07, which was the subject of FR Doc. 01-28571, is corrected as follows:

§ 39.13 [Corrected]

On page 57364, under heading 14 CFR part 39, in the second column, the 22nd line from the bottom of the page; and on page 57366, in § 39.13, in the second column, the 1st line from the top of the page, correct “2001-01-07” to “2001-23-07”.

Action is taken herein to correct these references in AD 2001-23-07 and to add this AD correction to § 39.13 of the Federal Aviation Regulations (14 CFR 39.13).

The effective date remains January 7, 2002.

Issued in Kansas City, Missouri, on November 15, 2001.
Michael Gallagher,
Manager, Small Airplane Directorate, Aircraft Certification Service.

[FR Doc. 01-29492 Filed 11-27-01; 8:45 am]

BILLING CODE 4910-13-U